RAILROAD RETIREMENT BOARD

Agency Forms Submitted for OMB Review, Request for Comments

Summary: In accordance with the Paperwork Reduction Act of 1995 (44 U.S.C. Chapter 35), the Railroad Retirement Board (RRB) is forwarding an Information Collection Request (ICR) to the Office of Information and Regulatory Affairs (OIRA), Office of Management and Budget (OMB). Our ICR describes the information we seek to collect from the public. Review and approval by OIRA ensures that we impose appropriate paperwork burdens.

The RRB invites comments on the proposed collections of information to determine (1) the practical utility of the collections; (2) the accuracy of the estimated burden of the collections; (3) ways to enhance the quality, utility, and clarity of the information that is the subject of collection; and (4) ways to minimize the burden of collections on respondents, including the use of automated collection techniques or other forms of information technology. Comments to the RRB or OIRA must contain the OMB control number of the ICR. For proper consideration of your comments, it is best if the RRB and OIRA receive them within 30 days of the publication date.

1. Title and purpose of information collection: Application for Survivor Insurance Annuities; OMB 3220-0030.

Under Section 2(d) of the Railroad Retirement Act (RRA), monthly survivor annuities are payable to surviving widow(er)s, parents, unmarried children, and in certain cases, divorced spouses, mothers (fathers), remarried widow(er)s, and grandchildren of deceased railroad employees if there are no qualified survivors of the employee immediately eligible for an annuity. The requirements relating to the annuities are prescribed in 20 CFR 216, 217, 218, and 219.

To collect the information needed to help determine an applicant's entitlement to, and the amount of, a survivor annuity the RRB uses Forms AA-17, Application for Widow(er)'s Annuity; AA-17b, Applications for Determination of Widow(er)'s Disability; AA-18, Application for Mother's/Father's and Child's Annuity; AA-19, Application for Child's Annuity; AA-19a, Application for Determination of Child's Disability; AA-20, Application for Parent's Annuity, and electronic Forms AA-17cert, Application Summary and Certification and AA-17sum, Application Summary.

The on-line automated survivor annuity application (Forms AA-17, AA-18, AA-19, and AA-20) process obtains information about an applicant's marital history, work history, benefits from other government agencies, and Medicare entitlement for a survivor annuity. An RRB representative interviews the applicant either at a field office (preferred), an itinerant point, or by telephone. During the interview, the RRB representative enters the information obtained into an on-line information system. Upon completion of the interview, the system generates, for the applicant's review, either Form AA-17cert or AA-17sum, which provides a summary of the information that the applicant provided or verified. Form AA-17cert, Application Summary and Certification, requires a tradition pen and ink “wet” signature. Form AA-17sum, Application Summary, documents the alternate signing method called “Attestation,” which is an action taken by the RRB representative to confirm and annotate in the RRB records (1) the applicant's intent to file an application; (2) the applicant's affirmation under penalty of perjury that the information provided is correct; and (3) the applicant's agreement to sign the application by proxy. When the RRB representative is unable to contact the applicant in person or by telephone, for example, the applicant lives in another country, a manual version of the appropriate form is used. One response is requested of each respondent. Completion of the forms is required to obtain a benefit.

Previous requests for comments: The RRB has already published the initial 60-day notice (83 FR 66323 on December 26, 2018) required by 44 U.S.C. 3506(c)(2). That request elicited no comments.

Information Collection Request (ICR)

Title: Application for Survivor Insurance Annuities.

OMB control number: 3220-0030.

Form(s) submitted: AA-17b, AA-17cert, AA-17sum, and AA-19a.

Type of request: Revision of a currently approved collection.

Affected public: Individuals or Households.

Abstract: Under Section 2(d) of the Railroad Retirement Act, monthly survivor annuities are payable to surviving widow(er)s, parents, unmarried children, and in certain cases, divorced wives (husbands), mothers (fathers), remarried widow(er)s and grandchildren of deceased railroad employees. The collection obtains information needed by the RRB to determine entitlement to and the amount of the annuity applied for.

Changes proposed: The RRB proposes significant changes to Form AA-17b in support of the RRB's Disability Program Improvement Plan (DPIP) to enhance and improve disability case processing and overall program integrity as recommended by the RRB's Office of Inspector General and the Government Accountability Office. Proposed changes to Form AA-17b include the addition of questions regarding the applicant's attempt to go back to work; education and training; additional scheduled medical care; daily activities, including any social and recreational activities and volunteer work; and possible use of a facilitator or attorney to either complete or aid in the completion of the application. Clarification of existing items and other non-burden impacting editorial and formatting changes to make the AA-17b consistent with other DPIP forms enhancements are also being proposed.

The burden estimate for the ICR is as follows:

Form No. | Annual responses | Time (minutes) | Burden (hours)
AA-17 Application Process:
AA-17cert | 900 | 20 | 300
AA-17sum | 2,100 | 19 | 665
AA-17b:
(With assistance) | 250 | 45 | 188
(Without assistance) | 20 | 55 | 18
AA-19a:
(With assistance) | 200 | 45 | 150
(Without assistance) | 15 | 65 | 16
Total | 3,485 |  | 1,337

2. Title and purpose of information collection: Application for Spouse Annuity Under the Railroad Retirement Act; OMB 3220-0042.

Section 2(c) of the Railroad Retirement Act (RRA), provides for the payment of annuities to spouses of railroad retirement annuitants who meet the requirements under the RRA. The age requirements for a spouse annuity depend on the employee's age, date of retirement, and years of railroad service. The requirements relating to the annuities are prescribed in 20 CFR 216, 218, 219, 232, 234, and 295.

To collect the information needed to help determine an applicant's entitlement to, and the amount of, a spouse annuity the RRB uses non-OMB Form AA-3, Application for Spouse/Divorced Spouse Annuity, and electronic OMB Forms AA-3cert, Application Summary and Certification, and AA-3sum, Application Summary.

The AA-3 application process gathers information from an applicant about their marital history, work history, benefits from other government agencies, and Medicare entitlement for a spouse annuity. An RRB representative interviews the applicant either at a field office (preferred), an itinerant point, or by telephone. During the interview, the RRB representative enters the information obtained into an on-line information system. Upon completion of the interview, the system generates, for the applicant's review, either Form AA-3cert or AA-3sum, which is a summary of the information that the applicant provided or verified. Form AA-3cert, Application Summary and Certification, requires a traditional pen and ink “wet” signature. Form AA-3sum, Application Summary, documents an alternate signing method called “Attestation,” which is an action taken by the RRB representative to confirm and annotate in the RRB records (1) the applicant's intent to file an application; (2) the applicant's affirmation under penalty of perjury that the information provided is correct; and (3) the applicant's agreement to sign the application by proxy. When the RRB representative is unable to contact the applicant in person or by telephone, for example, the applicant lives in another country, a manual version of Form AA-3 is used. One response is requested of each respondent. Completion of the form is required to obtain a benefit.

Previous requests for comments: The RRB has already published the initial 60-day notice (83 FR 66324 on December 26, 2018) required by 44 U.S.C. 3506(c)(2). That request elicited no comments.

Information Collection Request (ICR)

Title: Application for Spouse Annuity Under the Railroad Retirement Act.

OMB control number: 3220-0042.

Form(s) submitted: AA-3cert and AA-3sum.

Type of request: Extension without change of a currently approved collection.

Affected public: Individuals or Households.

Abstract: The Railroad Retirement Act provides for the payment of annuities to spouses of railroad retirement annuitants who meet the requirements under the Act. The application obtains information supporting the claim for benefits based on being a spouse of an annuitant. The information is used for determining entitlement to and amount of the annuity applied for.

Changes proposed: The RRB proposes no changes to the forms in the information collection.

The burden estimate for the ICR is as follows:

Form No. | Annual responses | Time (minutes) | Burden (hours)
Form AA-3cert (Ink Signature) Form AA-3sum (Attestation) | 6,400 4,600 | 30 29 | 3,200 2,223
Total | 11,000 |  | 5,423

Additional information or comments: Copies of the forms and supporting documents can be obtained from Brian Foster at (312) 751-4826 or Brian.Foster@RRB.GOV.

Comments regarding the information collection should be addressed to Brian Foster, Railroad Retirement Board, 844 North Rush Street, Chicago, Illinois 60611-1275 or Brian.Foster@rrb.gov and to the OMB Desk Officer for the RRB, Fax: 202-395-6974, Email address: OIRA_Submission@omb.eop.gov.

Brian Foster,
Clearance Officer.

[FR Doc. 2019-03487 Filed 2-27-19; 8:45 am]

BILLING CODE 7905-01-P